SECURITIES AND EXCHANGE COMMISSION

[Release No. 34-44618; File No. SR-EMCC-2001-01]

Self-Regulatory Organizations; Emerging Markets Clearing Corporation; Notice of Filing and Immediate Effectiveness of a Proposed Rule Change Revising Fees

July 30, 2001.

Pursuant to Section 19(b)(1) of the Securities Exchange Act of 1934 (“Act”),¹ notice is hereby given that on January 29, 2001, EMCC filed with the Securities and Exchange Commission (“Commission”) the proposed rule change as described in Items I, II, and III below, which Items have been prepared by EMCC. The Commission is publishing this notice to solicit comments on the proposed rule change from interested persons.

¹ 15 USC 78s(b)(1)

I. Self-Regulatory Organization's Statement of the Term of Substance of the Proposed Rule Change

The proposed rule change modified EMCC's fee schedule to charge members that use the Match-EM formats or the Datatrack/Autoroute communications network.

II. Self-Regulatory Organization's Statement of the Purpose of, and Statutory Basis for, the Proposed Rule Change

In its filing with the Commission, EMCC included statements concerning the purpose of and basis for the proposed rule change and discussed any comments it received on the proposed rule change. The text of these statements may be examined at the places specified in Item IV below. EMCC has prepared summaries, set forth in sections A, B, and C below, of the most significant aspects of such statements.²

² The Commission has modified the text of the summaries prepared by EMCC.

A. Self-Regulatory Organization's Statement of the Purpose of, and Statutory Basis for, the Proposed Rule Change

When EMCC first began operations, EMCC supported the message formats created for the Match-EM trade comparison system operated by General Electric Corporation. In October 1999, however, EMCC stopped accepting trade data via the Match-EM system although it has continued to accept data directly from those members still using the Match-EM formats. Similarly, the Datatrack/Autoroute communications link offered to members when EMCC began operations has largely been supplanted by communications via the SWIFT network or via direct communication using MQ protocol.

EMCC currently incurs data processing costs attributable to accepting data in the Match-EM format and receiving transmissions via the Datatrack/Autoroute communications network. EMCC does not believe that it is appropriate to absorb these costs and that these costs should be paid by those members who continue to use these services. Accordingly, EMCC has determined to charge those members who, from and after July 1, 2001, continue to use the Match-EM format and/or the Datatrack/Autoroute communications network a fee equal to EMCC's cost of providing such data processing services on a proportionate pass-through basis based upon a formula that takes into account transaction volumes and the number of participants utilizing the services. EMCC estimates these costs to be approximately $30,000 per year for using the Match-EM format and approximately $90,000 per year for using the Datatrack/Autoroute network. Thus, the maximum annual charge a member would have responsibility for, if it were the last member using both services, is $120,000.

EMCC believes that the proposed rule change is consistent with the requirements of Section 17A of the Act and the rules and regulations thereunder since it provides for the equitable allocation of dues, fees, and other charges among EMCC's participants.

B. Self-Regulatory Organization's Statement on Burden on Competition

EMCC does not believe that the proposed rule change will have an impact on or impose a burden on competition.

C. Self-Regulatory Organization's Statement on Comments on the Proposed Rule Change Received From Members, Participants, or Others

No written comments relating to the proposed rule change have been solicited or received. EMCC will notify the Commission of any written comments received by EMCC.

III. Date of Effectiveness of the Proposed Rule Change and Timing for Commission Action

The foregoing rule change has become effective pursuant to Section 19(b)(3)(A)(ii) of the Act ³ and Rule 19b-4(2) ⁴ thereunder because the proposed rule change establishes a fee. At any time within sixty days of the filing of such rule change, the Commission may summarily abrogate such rule change if it appears to the Commission that such action is necessary or appropriate in the public interest, for the protection of investors, or otherwise in furtherance of he purposes of the Act.

³ 15 U.S.C. 78s(b)(3)(A)(ii)

⁴ 17 C.F.R. 240.19b-4(f)(2).

IV. Solicitation of Comments

Interested persons are invited to submit written data, views, and arguments concerning the foregoing, including whether the proposed rule change is consistent with the Act. Persons making written submissions should file six copies thereof with the Secretary, Securities and Exchange Commission, 450 Fifth Street NW., Washington, DC 20549-0609. Copies of the submission, all subsequent amendments, all written statements with respect to the rule proposal that are filed with the Commission, and all written communications relating to the rule proposal between the Commission and any person, other than those that may be withheld from the public in accordance with the provisions of 5 U.S.C. 552, will be available for inspection and copying in the Commission's Public Reference Room in Washington, DC. Copies of such filing will also be available for inspection and copying at EMCC's principal office. All submissions should refer to file No. SR-EMCC-2001-01 and should be submitted by August 27, 2001.

For the Commission by the Division of Market Regulation, pursuant to delegated authority.⁵
⁵ 17 CFR 200.30-3(a)(12)
Margaret H. McFarland,
Deputy Secretary.

[FR Doc. 01-19523 Filed 8-3-01; 8:45 am]

BILLING CODE 8010-01-M